DEPARTMENT OF HOUSING AND URBAN DEVELOPMENT

[Docket No. 5600-FA-43]

Announcement of Funding Awards; Capital Fund Safety and Security Grants; Fiscal Year 2012

AGENCY: Office of the Assistant Secretary for Public and Indian Housing, HUD.

ACTION: Announcement of funding awards.

SUMMARY: In accordance with Section 102(a)(4)(C) of the Department of Housing and Urban Development Reform Act of 1989, this announcement notifies the public of funding decisions made by the Department. The public was notified of the availability of the Safety and Security funds with PIH Notice 2012-38 (Notice), which was issued September 7, 2012. Public Housing Authorities (PHAs) were funded in accordance with the terms of the Notice. This announcement contains the consolidated names and addresses of this year's award recipients under the Capital Fund Safety and Security grant program.

FOR FURTHER INFORMATION CONTACT: For questions concerning the Safety and Security awards, contact Jeffrey Riddel, Director, Office of Capital Improvements, Office of Public Housing, Department of Housing and Urban Development, 451 7th Street SW., Room 4130, Washington, DC 20410, telephone (202) 708-1640. Hearing or speech-impaired individuals may access this number via TTY by calling the toll-free Federal Relay Service at (800) 877-8339.

SUPPLEMENTARY INFORMATION: The Capital Fund Safety and Security program provides grants to PHAs for physical safety and security measures necessary to address crime and drug-related emergencies. More specifically, in accordance with Section 9 of the United States Housing Act of 1937 (42 U.S.C. 1437g) (1937 Act), and the Department of Defense and Full-Year Continuing Appropriations Act, 2012 (Pub. L. 112-55, approved April 15, 2011) (FY 2012 appropriations), Congress appropriated funding to provide assistance to “public housing agencies for emergency capital needs including safety and security measures necessary to address crime and drug-related activity as well as needs resulting from unforeseen or unpreventable emergencies and natural disasters excluding Presidentially declared disasters occurring in fiscal year [2012].”

The FY 2012 awards in this Announcement were evaluated for funding based on the criteria in the Notice. These awards are funded from the set-aside in the FY 2012 appropriations.

In accordance with Section 102 (a)(4)(C) of the Department of Housing and Urban Development Reform Act of 1989 (103 Stat.1987, 42 U.S.C. 3545), the Department is publishing the names, addresses, and amounts of the 18 awards made under the set aside in Appendix A to this document.

Dated: March 15, 2013.
Sandra B. Henriquez,
Assistant Secretary for Public and Indian Housing.

Appendix A—Capital Fund Safety and Security Program FY2012 Awards
Name/address of applicant | Amount funded | Project description
Jasper City Housing Authority, 1005 Highway 69 South, Jasper City, AL 35501 | $250,000 | Security Cameras, Lighting, Fencing, and DVRs.
Oakland Housing Authority, 1619 Harrison Street, Oakland, CA 94612 | 250,000 | Security Camera Surveillance System including digital video recorders.
Housing Authority of the City of Lakeland, 430 Hartsell Avenue, Lakeland, FL 33815 | 250,000 | Security Cameras and Lighting.
Pahokee Housing Authority, 465 Friend Terrace, Pahokee, FL 33476-1941 | 250,000 | Security Cameras, Lighting, and Fencing.
Hawaii Public Housing Authority, 1002 N. School Street, Honolulu, HI 96817 | 250,000 | Security Cameras, Lighting, and Fencing.
Livingston County Housing Authority, 903 W North Street , Pontiac, IL 61764-1062 | 250,000 | Security Cameras.
Housing Authority of Covington, 2300 Madison Avenue, Covington, KY 41014 | 245,180 | Security Cameras and License Plate Readers.
Worcester Housing Authority, 40 Belmont Street, Worcester, MA 01605-2655 | 179,685 | Doors, Access Control System.
Malden Housing Authority, 630 Salem Street, Malden, MA 02148-4361 | 170,000 | Security Cameras, Lighting, and entrance doors.
Sanford Housing Authority, 1000 Carthage Street, Sanford, NC 27330 | 244,500 | Security Cameras, Security Camera, infrastructure, Lighting, and Doors.
Jersey City Housing Authority, 400 U.S. Highway #1, (Marion Gardens) Building #7, Jersey City, NJ 07306 | 152,000 | Security Cameras, Repair/Replace entrances.
Pleasantville Housing Authority, 156 North Main Street, Pleasantville, NJ 08232-2569 | 216,757 | Security Camera Surveillance System.
Port Chester Housing Authority, P.O. Box 347, Port Chester, NY 10573 | 225,000 | Security Camera Surveillance System.
Ithaca Housing Authority, 798 South Plain St, Ithaca, NY 14850-5359 | 250,000 | Security Cameras, Exterior Access Controls, DVRs.
Housing Authority of the Town of Temple, 100 McClain Street, Temple, OK 73568 | 6,000 | Deadbolt Locks.
Wilkes-Barre Housing Authority, 50 Lincoln Plaza, Wilkes-Barre, PA 18702 | 250,000 | Security Cameras, Network Video Recorders, and Lighting.
Ft. Worth Housing Authority, 1201 E 13th Street, Ft. Worth, TX 76102-5764 | 250,000 | Security Cameras.
Suffolk Redevelopment and Housing Authority, 530 E Pinner Street, Suffolk, VA 23434-3023 | 250,000 | Security Cameras and Network Video Recorders.

[FR Doc. 2013-06778 Filed 3-22-13; 8:45 am]

BILLING CODE 4210-67-P